DEPARTMENT OF LABOR

Mine Safety and Health Administration

[OMB Control No. 1219-0009]

Proposed Extension of Existing Information Collection; Training Plans and Records of Training

AGENCY: Mine Safety and Health Administration, Labor.

ACTION: Notice of request for public comments.

SUMMARY: The Department of Labor, as part of its continuing effort to reduce paperwork and respondent burden, conducts a pre-clearance consultation program to provide the general public and Federal agencies with an opportunity to comment on proposed and/or continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for Training Plans and Records of Training, 30 CFR 48.3, 48.9, 48.23, and 48.29.

DATES: All comments must be received by midnight Eastern Standard Time on February 15, 2011.

ADDRESSES: Comments must clearly be identified with the rule title and may be submitted to MSHA by any of the following methods:

(1) Electronic mail: zzMSHA-Comments@dol.gov.

(2) Facsimile: (202) 693-9441.

(3) Regular Mail: MSHA, Office of Standards, Regulations, and Variances, 1100 Wilson Blvd., Room 2350, Arlington, VA 22209-3939.

(4) Hand Delivery or Courier: MSHA, Office of Standards, Regulations, and Variances, 1100 Wilson Blvd., Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

The Federal Mine Safety and Health Act of 1977 (Mine Act), as amended, 30 U.S.C. 801 et seq., recognizes that education and training in the improvement of miner health and safety is an important element of federal efforts to make the nation's mines safer places in which to work.

Title 30, CFR §§ 48.3 and 48.23 require training plans for underground and surface mines, respectively. The standards are intended to assure that miners will be effectively trained in matters affecting their health and safety, with the ultimate goal being the reduction of injuries and illness in the nation's mines. Training plans are required to be submitted for approval to the MSHA District Manager for the area in which the mine is located. Plans must contain the company name, mine name, and MSHA identification number of the mine; the name and position of the person designated by the operator who is responsible for health and safety training at the mine; a list of MSHA-approved instructors with whom the operator proposes to make arrangements to teach the courses and the courses each instructor is qualified to teach; the location where training will be given for each course; a description of the teaching methods and the course materials which are to be used in training; the approximate number of miners employed at the mine and the maximum number who will attend each session of training; the predicted time or periods of time when regularly scheduled refresher training will be given including the titles of courses to be taught, the total number of instruction hours for each course, and the predicted time and length of each session of training; and for new task training, a complete list of task assignments, the titles of personnel conducting the training, the outline of training procedures used, and the evaluation procedures used to determine the effectiveness of the training. Records of training are required for underground and surface mines under §§ 48.9 and 48.29.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the proposed information collection request can be obtained by contacting the employee listed in the FOR FURTHER INFORMATION CONTACT section of this notice, or viewed on the Internet by selecting “Rules & Regs,” and then selecting “FedReg.Docs.” On the next screen, select “Paperwork Reduction Act Supporting Statement” to view documents supporting the Federal Register notice.

III. Current Actions

This request for collection of information contains notification and recordkeeping provisions for the Proposed Information Collection Request Submitted for Public Comment and Recommendations; Training Plans and Records of Training for Underground Miners and Miners Working at Surface Mines and Surface Areas of Underground Mines, 30 CFR 48.3, 48.9, 48.23, and 48.29. MSHA does not intend to publish the results from this information collection and is not seeking approval to either display or not display the expiration date for the OMB approval of this information collection.

There are no certification exceptions identified with this information collection and the collection of this information does not employ statistical methods.

Type of Review: Extension.

Agency: Mine Safety and Health Administration.

OMB Number: 1219-0009.

Frequency: On occasion.

Affected Public: Business or other for-profit.

Cost to Federal Government: $428,239.

Total Burden Respondents: 3,017.

Total Number of Responses: 267,417.

Total Burden Hours: 27,793.

Total Hour Burden Cost (operating/maintaining): $1,082,165.

Comments submitted in response to this notice will be summarized and/or included in the request for Office of Management and Budget approval of the information collection request; they will also become a matter of public record.

Dated: December 13, 2010.
Patricia W. Silvey,
Director, Office of Standards, Regulations, and Variances.

[FR Doc. 2010-31689 Filed 12-16-10; 8:45 am]

BILLING CODE 4510-43-P